DEPARTMENT OF JUSTICE

Notice of Lodging of Settlement Agreement under the Comprehensive Environmental Response, Compensation, and Liability Act

Notice is hereby given that on April 30, 2012, a proposed Consent Decree and Settlement Agreement (the “Onondaga Non-Owned Site Settlement Agreement”) in the bankruptcy matter, In re Motors Liquidation Corp, et al., f/k/a General Motors Corp., et al., Jointly Administered Case No. 09-50026 (REG), was lodged with the United States Bankruptcy Court for the Southern District of New York. The Parties to the Onondaga Non-Owned Site Settlement Agreement are the Motors Liquidation General Unsecured Creditors Trust (“Old GM”), and the United States of America. The Settlement Agreement resolves claims and causes of action of the Environmental Protection Agency (“EPA”) against Old GM under the Comprehensive Environmental Response, Compensation, and Liability Act (“CERCLA”), 42 U.S.C. 9601-9675, with respect to the following portions of the Onondaga Lake Superfund Site in New York:

1. Onondaga Lake Bottom;

2. Salina Landfill;

3. Inland Fisher Guide Facility; and

4. PCB Dredgings Area.

Under the Onondaga Non-Owned Site Settlement Agreement, EPA will receive a total allowed general unsecured claim as provided in the Onondaga Non-Owned Site Settlement Agreement of $896,566 from Old GM for its future oversight costs at Onondaga Lake Bottom, its unreimbursed past costs and future costs at the Salina Landfill, its unreimbursed past costs at the Inland Fisher Guide Facility, and its unreimbursed past costs at the PCB Dredgings Area.

The Department of Justice will receive, for a period of thirty (30) days from the date of this publication, comments relating to the Onondaga Non-Owned Site Settlement Agreement. Comments should be addressed to the Assistant Attorney General, Environment and Natural Resources Division, and either emailed to pubcomment-ees.enrd@usdoj.gov or mailed to P.O. Box 7611, U.S. Department of Justice, Washington, DC 20044-7611, and should refer to In re Motors Liquidation Corp., et al., D.J. Ref. 90-11-3-09754.

The Onondaga Non-Owned Site Settlement Agreement may be examined at the Office of the United States Attorney, 86 Chambers Street, 3rd Floor, New York, New York 10007, and at the U.S. Environmental Protection Agency, Ariel Rios Building, 1200 Pennsylvania Avenue NW, Washington, DC 20460. During the public comment period, the Onondaga Non-Owned Site Settlement Agreement may also be examined on the following Department of Justice Web site, http://www.usdoj.gov/enrd/Consent_Decrees.html. Copies of the Onondaga Non-Owned Site Settlement Agreement may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $4.75 (25 cents per page reproduction cost) payable to the U.S. Treasury or, if by email or fax, please forward a check in that amount to the Consent Decree Library at the address given above.

Karen Dworkin,
Assistant Chief, Environmental Enforcement Section, Environment and Natural Resources Division.

[FR Doc. 2012-10875 Filed 5-4-12; 8:45 am]

BILLING CODE 4410-15-P